DEPARTMENT OF THE INTERIOR

National Park Service

Advisory Commission for the San Francisco Maritime National Historical Park Public Meeting

Department of Interior agenda for the June 21, 2000 public meeting of the Advisory Commission for the San Francisco Maritime National Historical Park, Golden Gate Club in the Presidio 10:00 AM-12:15 PM.

10 AM Welcome—Neil Chaitin, Chairman,

Opening Remarks—Neil Chaitin, Chairman,

Approval of Minutes from Previous Meeting

10:15 AM Report of the Superintendent— William Thomas, Superintendent

10:30 AM New Collection Storage Space Initiatives— Tom Mulhern, Collections Manager

10:45 AM Staff Reports

11:45 AM Public Comments and Questions

12 PM Election of Officers

12:15 PM Agenda Items/Date for Next Meeting.

William G. Thomas,
Superintendent.

[FR Doc. 00-12316 Filed 5-15-00; 8:45 am]

BILLING CODE 4310-70-P